DEPARTMENT OF DEFENSE

Office of the Secretary

[Docket ID DoD-2014-OS-0108]

Privacy Act of 1974; System of Records

AGENCY: Defense Logistics Agency, DoD.

ACTION: Notice to amend a System of Records.

SUMMARY: The Defense Logistics Agency is amending a system of records notice S900.50, entitled “Labor Hours, Project and Workload Records” in its existing inventory of record systems subject to the Privacy Act of 1974, as amended. The purpose of this system is to track contractor employees' and military members' workload/project activity for analysis and reporting purposes, time and attendance, and labor distribution data against projects for management and planning purposes; to maintain management records associated with the operations of the contract; to evaluate and monitor the contractor performance and other matters concerning the contract.

DATES: Comments will be accepted on or before August 14, 2014. This proposed action will be effective on the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. LaDonne White, DLA FOIA/Privacy Act Office, Headquarters, Defense Logistics Agency, ATTN: DGA, 8725 John J. Kingman Road, Suite 1644, Fort Belvoir, VA 22060-6221, or by phone at (703)767-5045.

SUPPLEMENTARY INFORMATION: The Defense Logistics Agency systems of records notices subject to the Privacy Act of 1974 (5 U.S.C. 552a), as amended, have been published in the Federal Register and are available from the address in FOR FURTHER INFORMATION CONTACT or at http://dpclo.defense.gov/.

The proposed changes to the record system being amended are set forth in this notice. The proposed amendment is not within the purview of subsection (r) of the Privacy Act of 1974 (5 U.S.C. 552a), as amended, which requires the submission of a new or altered system report.

Dated: July 10, 2014.
Aaron Siegel,
Alternate OSD Federal Register Liaison Officer, Department of Defense.

S900.50

System name:

Labor Hours, Project and Workload Records (March 4, 2011, 76 FR 12076).

Changes:

* * * * *

System location:

Delete “Suite 6226” and replace with “Suite 1318.”

* * * * *

Categories of records in the system:

Delete from entry “and office telephone number.”

* * * * *

Purpose(s):

Delete entry and replace with “For the purpose of tracking contractor employees' and military members' workload/project activity for analysis and reporting purposes, time and attendance, and labor distribution data against projects for management and planning purposes; to maintain management records associated with the operations of the contract; to evaluate and monitor the contractor performance and other matters concerning the contract.”

* * * * *

System manager(s) and address:

Replace “Project Manager” with “EAGLE Project Manager.”

Notification procedure:

Delete entry and replace with “Individuals seeking to determine whether information about themselves is contained in this system of records should address written inquiries to the DLA FOIA/Privacy Act Office, Headquarters, Defense Logistics Agency, ATTN: DGA, 8725 John J. Kingman Road, Suite 1644, Fort Belvoir, VA 22060-6221.

Inquiry should contain the subject individual's full name, User ID or DLA email address, return mailing address, and organizational location of the individual.”

Record access procedures:

Delete entry and replace with “Individuals seeking access to information about themselves contained in this system of records should address written inquiries to the DLA FOIA/Privacy Act Office, Headquarters, Defense Logistics Agency, ATTN: DGA, 8725 John J. Kingman Road, Suite 1644, Fort Belvoir, VA 22060-6221.

Inquiry should contain the subject individual's full name, User ID or DLA email address, return mailing address, and organizational location of the individual.”

Contesting record procedures:

Delete entry and replace with “The DLA rules for accessing records, for contesting contents, and appealing initial agency determinations are contained in 32 CFR part 323, or may be obtained from the DLA FOIA/Privacy Act Office, Headquarters, Defense Logistics Agency, ATTN: DGA, 8725 John J. Kingman Road, Suite 1644, Fort Belvoir, VA 22060-6221.”

* * * * *

[FR Doc. 2014-16516 Filed 7-14-14; 8:45 am]

BILLING CODE 5001-06-P